FEDERAL TRADE COMMISSION

Agency Information Collection Activities; Proposed Collection; Comment Request; Extension

AGENCY: Federal Trade Commission.

ACTION: Notice and request for comment.

SUMMARY: The Federal Trade Commission (FTC or Commission) requests that the Office of Management and Budget (OMB) extend for an additional three years the current Paperwork Reduction Act (PRA) clearance for the information collection requirements in the Used Car Rule (Rule). That clearance expires on February 28, 2026.

DATES: Comments must be received by March 27, 2026.

ADDRESSES: Written comments and recommendations for the proposed information collection should be sent within 30 days of publication of this notice to www.reginfo.gov/public/do/PRAMain. Find this particular information collection and its accompanying supporting statement by selecting “Currently under 30-day Review—Open for Public Comments” or by using the search function. The reginfo.gov web link is a United States Government website produced by OMB and the General Services Administration (GSA). Under PRA requirements, OMB's Office of Information and Regulatory Affairs (OIRA) reviews Federal information collections.

FOR FURTHER INFORMATION CONTACT: Elizabeth Scott, Attorney, Midwest Region, Federal Trade Commission, (312) 960-5609, escott@ftc.gov.

SUPPLEMENTARY INFORMATION:

Title of Collection: The Used Car Rule, 16 CFR part 455.

OMB Control Number: 3084-0108.

Type of Review: Extension without change of currently approved collection.

Affected Public: Private Sector: Businesses and other for-profit entities.

Estimated Annual Burden Hours: 3,166,352.¹

¹ The annual burden hours and annual labor costs are slightly higher than the estimates set out in the 60-Day Federal Register notice, which were 3,164,100 hours and $69,167,226, respectively. This is because updates to U.S. Census Bureau surveys now indicate that approximately 13.6 percent of the U.S. population speaks Spanish at home, and 8.6 percent of the population speak English less than very well, as opposed to 13.4 percent and 8.4 percent noted as of September 30, 2025.

Estimated Annual Labor Costs: $69,216,455.

Non-Labor Costs: $19,300,000.

Abstract

The Used Car Rule promotes informed purchasing decisions by requiring that used car dealers display a form called a “Buyers Guide” on each used car offered for sale that, among other things, discloses information about warranty coverage and other information to assist purchasers. The Rule has no recordkeeping or reporting requirements.

On December 5, 2025, the FTC sought comment on the information collection requirements associated with the Rule. 90 FR 56147. The Commission received three comments that support the renewal of the information collections.² Pursuant to OMB regulations, 5 CFR part 1320, that implement the PRA, 44 U.S.C. 3501 et seq., the FTC is providing this second opportunity for public comment while seeking OMB approval to renew the pre-existing clearance for the Rule. For more details about the Rule requirements and the basis for the calculations summarized above, see 90 FR 56147.

² Comment ID FTC-2025-0858-0003 (Tyler Rodriguez), received Dec. 9, 2025; Comment ID FTC-2025-0858-0002 (David Connell), received Dec. 8, 2025; and Comment ID FTC-2025-0858-0007 (Carson Loveless), received Jan. 26, 2025; all are available at https://www.regulations.gov/document/FTC-2025-0858-0001/comment.

Request for Comment

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential” —as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2026-03711 Filed 2-24-26; 8:45 am]

BILLING CODE 6750-01-P